LEGAL SERVICES CORPORATION

Legal Services Corporation Performance Criteria; Request for Comments on Performance Area 4

AGENCY: Legal Services Corporation.

ACTION: Request for comments; extension of comment period.

SUMMARY: The Legal Services Corporation (LSC) issued a notice requesting comments on proposed changes to the LSC Performance Criteria, Performance Area 4, “Effectiveness of governance, leadership, and administration” in the Federal Register of April 5, 2017 (FR Doc. 2017-06681). LSC requested comments by May 29, 2017. This notice extends the comment period for five business days to June 5, 2017.

DATES: Comments must be submitted by June 5, 2017.

ADDRESSES: You may submit comments by any of the following methods:

• Agency Web site: http://www.lsc.gov/about-lsc/matters-comment.

• Email: performancecriteria@lsc.gov.

• Fax: (202) 337-6813.

• Mail: Legal Services Corporation, 3333 K Street NW., Washington, DC 20007.

Instructions: All comments should be addressed to Zoe Osterman, Project Coordinator for the Executive Office, Legal Services Corporation. Include “Revisions to Performance Area 4” as the heading or subject line for all comments submitted.

FOR FURTHER INFORMATION CONTACT: Zoe Osterman, ostermanz@lsc.gov, (202) 295-1617.

SUPPLEMENTARY INFORMATION: LSC is extending the public comment period stated in the Federal Register notice for this request for comments. 82 FR 16634, Apr. 5, 2017. In that notice, LSC requested comments on proposed changes to the Performance Criteria, Performance Area 4, “Effectiveness of governance, leadership, and administration.” LSC established a response deadline of May 29, 2017. LSC has received a request for an extension of the comment period to allow interested parties and stakeholders additional time to develop their comments on the proposed changes. LSC is therefore extending the comment period for five business days, from May 29, 2017, to June 5, 2017.

Dated: May 25, 2017.
Stefanie K. Davis,
Assistant General Counsel.

[FR Doc. 2017-11266 Filed 5-31-17; 8:45 am]

BILLING CODE 7050-01-P